DEPARTMENT OF THE INTERIOR

Bureau of Ocean Energy Management

[Docket ID: BOEM-2017-0063; MMAA104000]

Outer Continental Shelf, Alaska OCS Region, Beaufort Sea, Proposed Oil and Gas Lease Sale for 2019

AGENCY: Bureau of Ocean Energy Management, Interior.

ACTION: Call for Information and Nominations.

SUMMARY: The Bureau of Ocean Energy Management (BOEM) is issuing this Call for Information and Nominations (Call) covering a proposed sale in the Beaufort Sea Planning Area in late 2019, as included in the 2019-2024 National Outer Continental Shelf (OCS) Oil and Gas Leasing Draft Proposed Program (2019-2024 National Draft Proposed Program), which BOEM announced on January 4, 2018. The purpose of this Call is to solicit industry nominations for areas of leasing interest and to gather comments and information on the area included in the Call for consideration in planning for this proposed OCS oil and gas lease sale. Because this lease sale is proposed to occur in 2019, and given the long lead time needed to prepare for a proposed sale, the planning process must begin now or the option of a lease sale in 2019 would be precluded. However, this Call is not a decision to lease and is not a prejudgment by the Secretary concerning any area that may be made available for leasing under the 2019-2024 National Program.

DATES: All nominations and comments submitted in response to this Call must be received by BOEM no later than April 30, 2018. BOEM will consider submissions sent by mail so long as they are postmarked by the last day of the comment period.

ADDRESSES: Public Comment Submission Procedures: All public comments should be submitted through one of the following methods:

1. Federal eRulemaking Portal: http://www.regulations.gov. In the field entitled, “Search,” enter “BOEM-2017-0063” and then click “search.” Follow the instructions to submit public comments and view supporting and related materials available for this notice;

2. U.S. Postal Service or other delivery service to the following address: Chief, Leasing Section, BOEM, Alaska OCS Region, 3801 Centerpoint Drive, Suite 500, Anchorage, Alaska 99503-5823. Send your comments in an envelope clearly labelled, “Comments on the Call for Information and Nominations for Proposed 2019 Lease Sale in the Beaufort Sea Planning Area.”

Nominations/Indications of Industry Interest Submission Procedures: To ensure security and confidentiality of proprietary information to the maximum extent possible, please send nominations/indications of interest and other proprietary information to Chief, Leasing Section, BOEM, Alaska OCS Region, 3801 Centerpoint Drive, Suite 500, Anchorage, Alaska 99503-5823. Send your nominations in an envelope clearly labeled, “Nominations for Proposed 2019 Lease Sale in the Beaufort Sea Planning Area.”

FOR FURTHER INFORMATION CONTACT: Ms. Patricia LaFramboise, Chief, Leasing Section, Bureau of Ocean Energy Management, Alaska OCS Region, 3801 Centerpoint Drive, Suite 500, Anchorage, AK 99503, telephone (907) 334-5200.

SUPPLEMENTARY INFORMATION:

2019-2024 National Program Development: On January 4, 2018, the Department of the Interior announced the release of the 2019-2024 National OCS Oil and Gas Leasing Draft Proposed Program and published a Notice of Intent (NOI) to prepare a Programmatic Environmental Impact Statement (PEIS) for the 2019-2024 National Program. In the 2019-2024 National OCS Oil and Gas Leasing Draft Proposed Program, BOEM identified potential exclusion areas in the Beaufort Sea Planning Area: A Barrow Whaling Area and a Kaktovik Whaling Area. These areas will be analyzed and their potential exclusion from leasing considered as the Department of the Interior moves forward with the 2019-2024 National Program development process. Information on the development of the proposed 2019-2024 National Program and PEIS is available on BOEM's website at: https://www.boem.gov/National-OCS-Program/.

Because this sale is proposed to occur at the beginning of the 2019-2024 National Program lease sale schedule, and there is a long lead time needed to prepare for a proposed oil and gas lease sale, the administrative and environmental review processes for this sale must occur simultaneously and in close coordination with the development of the 2019-2024 National Program.

This Call should not be construed as a prejudgment by the Secretary concerning any area that could be made available for leasing under the 2019-2024 National Program. This Call does not indicate a preliminary decision to lease in the area described herein. This Call is not itself a leasing announcement; however, the area described herein, or portions thereof, may be made available for future oil and gas leasing.

Environmental Review Process: BOEM intends to prepare an Environmental Impact Statement (EIS), in accordance with the National Environmental Policy Act (NEPA), covering the proposed lease sale included in this Call.

The lease sale EIS will evaluate the potential effects of leasing on the human, marine, and coastal environments, and may develop measures and lease stipulations to mitigate adverse impacts for the options being analyzed. Several consultations will be conducted concurrently with the NEPA process. These consultations include, but are not limited to, those required by the Endangered Species Act (ESA), the Magnuson-Stevens Fishery Conservation and Management Act, Section 106 of the National Historic Preservation Act (NHPA), and Executive Order 13175—“Consultation and Coordination with Tribal Governments.” The results of these consultations will assist BOEM in its leasing decisions.

BOEM's Leasing Process: BOEM's regulations for planning and holding an oil and gas lease sale are found at 30 CFR 556.300-309.

(1) Call for Information and Nominations: See section below.

(2) Area Identification: Based on the information and nominations submitted in response to this Call, BOEM will develop a recommendation of the area proposed for further leasing consideration and/or environmental analysis. Upon approval by the Secretary, BOEM will announce the proposed area identified for leasing in the Federal Register, in accordance with 30 CFR 556.302(a)(3).

(3) Proposed Notice of Sale (NOS): If BOEM proceeds with consideration of leasing after completion of Area Identification and environmental analysis, it will publish a Notice of Availability of a PNOS in the Federal Register and send the Proposed NOS to the Governor of Alaska for comment and recommendations on the size, timing, and location of the proposed sale. The Proposed NOS describes the size, timing, and location of the proposed sale, provides additional information on the area(s) proposed for leasing, lists proposed lease terms and conditions of the sale, and provides proposed stipulations to mitigate potential adverse impacts on the environment.

(4) Final Notice of Sale (NOS): If BOEM decides to proceed with leasing, it will publish a Final NOS in the Federal Register at least 30 days before the date of the lease sale. The Final NOS describes the place, time, and method for filing bids and the place, date, and hour for opening and publicly announcing bids. It also contains a description of the area(s) offered for lease, the lease terms and conditions of the sale, and stipulations to mitigate potential adverse impacts on the environment.

Call for Information and Nominations

1. Authority

This Call is published pursuant to the Outer Continental Shelf Lands Act (OCSLA), as amended (43 U.S.C. 1331-1356), and the implementing regulation at 30 CFR 556.301.

2. Purpose of the Call

The purpose of this Call is to solicit industry nominations for areas of leasing interest and to gather comments and information from the public on the area(s) that should be included in the proposed OCS oil and gas lease sale in the Beaufort Sea Planning Area in 2019. Pursuant to 30 CFR 556.301, BOEM seeks comments from industry and the public on:

(a) industry interest in the area proposed for leasing, including nominations or indications of interest in specific blocks within the area;

(b) geological conditions, including bottom hazards;

(c) archaeological sites on the seabed or near shore;

(d) potential multiple uses of the proposed leasing area, including subsistence and navigation;

(e) areas that should receive special concern and analysis; and

(f) other socioeconomic, biological, and environmental information.

Information submitted in response to this Call will be used to:

• Determine the Area Identification under 30 CFR 556.302;

• Prioritize areas with potential for oil and gas development;

• Develop potential lease terms and conditions;

• Identify potential use conflicts and potential mitigation measures; and

• Assist in BOEM's planning and environmental review process.

3. Description of the Call Area

The Beaufort Sea Planning Area is located offshore the State of Alaska and extends from the 3-nautical mile (nm) (4.8 kilometers [km]) limit of State of Alaska submerged lands to and northward approximately to latitude 75° N on the west (west of longitude 148° W) or to latitude 74° N on the east (east of longitude 148° W). The planning area extends from longitude 156° W (roughly north of the village of Utqiaġvik, formerly known as Barrow) on the west to the Canadian maritime boundary. This area consists of 11,876 whole and partial blocks (about 65 million acres, or 26.2 million hectares).

A map depicting the Call Area is available for download on the BOEM website at: http://www.boem.gov/Beaufort2019. Copies of Official Protraction Diagrams (OPDs) also are available for download on the BOEM website at: https://www.boem.gov/Maps-and-GIS-Data/.

4. Instructions on the Call

Parties interested in leasing are requested to indicate their interest in, and comment on, the Federal acreage within the boundaries of the Call Area that they wish to have included in the proposed lease sale. Respondents should explicitly outline the areas of interest along block lines and rank the areas or specific blocks in which they are interested, according to their priority, using the following indicators: 1 [high], 2 [medium], or 3 [low]. Respondents are encouraged to be as specific as possible in prioritizing blocks and supporting nominations of specific blocks with detailed information, such as relevant geologic, geophysical, and economic data. Areas where interest has been indicated, but on which respondents have not indicated priorities, will be considered low priority. Respondents may also submit a list of blocks nominated by OPD and Leasing Map designations to ensure correct interpretation of their nominations. OPDs and Leasing Maps are available on BOEM's website at https://www.boem.gov/Maps-and-GIS-Data/.

BOEM also seeks comments from all interested parties about particular geological, environmental, biological, archaeological and socioeconomic conditions, multi-use conflicts, or other information about conditions that could affect the potential leasing and development of particular areas. Comments may refer to broad areas or may refer to particular OCS blocks.

5. Protection of Privileged or Proprietary Information

BOEM will protect privileged or proprietary information that industry submits in accordance with the Freedom of Information Act (FOIA) and OCSLA requirements. To avoid inadvertent release of such information, all documents and every page containing such information should be marked with “Confidential—Contains Proprietary Information.” To the extent a document contains a mix of proprietary and nonproprietary information, the document should be clearly marked to indicate which portion of the document is proprietary and which is not. Exemption 4 of FOIA applies to trade secrets and commercial or financial information that you submit that is privileged or confidential. The OCSLA states that the “Secretary shall maintain the confidentiality of all privileged or proprietary data or information for such period of time as is provided for in this subchapter, established by regulation, or agreed to by the parties” (43 U.S.C. 1344(g)). BOEM considers nominations of specific blocks to be proprietary, and therefore BOEM will not release information that identifies any particular nomination with any particular party, so as not to compromise the competitive position of any participants in the process of indicating interest.

However, please be aware that BOEM's practice is to make all comments, including the names and addresses of individuals, available for public inspection. Before including your address, phone number, email address, or other personal identifying information in your comment, please be advised that your entire comment, including your personal identifying information, may be made publicly available at any time. In order for BOEM to withhold from disclosure your personal identifying information, you must identify any information contained in the submission of your comments that, if released, would constitute a clearly unwarranted invasion of your personal privacy. You must also briefly describe any possible harmful consequence(s) of the disclosure of information, such as embarrassment, injury or other harm. While you can ask us in your comment to withhold from public review your personal identifying information, we cannot guarantee that we will be able to do so. BOEM will make available for public inspection, in their entirety, all comments submitted by organizations and businesses, or by individuals identifying themselves as representatives of organizations or businesses.

Dated: March 5, 2018.
Walter D. Cruickshank,
Acting Director, Bureau of Ocean Energy Management.

[FR Doc. 2018-06533 Filed 3-29-18; 8:45 am]

BILLING CODE 4310-MR-P